DEPARTMENT OF THE INTERIOR

Bureau of Land Management

[LLWO3200000-L19900000.PP0000]

Proposed Information Collection; Comment Request

AGENCY: Bureau of Land Management, Interior.

ACTION: 60-day notice and request for comments.

SUMMARY: In accordance with the Paperwork Reduction Act (PRA), the Bureau of Land Management (BLM) is announcing its intention to request that the Office of Management and Budget (OMB) issue a new control number for two forms—Form 3830-4, Affidavit of Annual Assessment Work; and Form 3830-5, Maintenance Fee Payment Form. As required by the PRA, the BLM is soliciting public comments on the proposed forms. Upon approval of the new control number by the OMB, the BLM will consider requesting that the new control number be combined with existing control number 1004-0114, Recordation of Location Notices and Mining Claims; Payment of Fees (43 CFR parts 3832-3838).

DATES: Please submit comments by July 19, 2011.

ADDRESSES: Please submit comments by mail, electronic mail, or fax:

Mail: U.S. Department of the Interior, Bureau of Land Management, 1849 C Street, NW., Room 2134LM, Attention: Jean Sonneman, Washington, DC 20240.

Fax: to Jean Sonneman at 202-912-7181.

Electronic mail: Jean_Sonneman@blm.gov.

Please indicate “Attn: 1004-XXXX” regardless of the form of your comments.

FOR FURTHER INFORMATION CONTACT: Sonia Santillan, Mineral Leasing Specialist, Bureau of Land Management, Division of Solid Minerals, (202) 912-7123 (Commercial or FTS). Persons who use a telecommunication device for the deaf (TDD) may call the Federal Information Relay Service (FIRS) on 1-800-877-8330, to contact Ms. Santillan.

SUPPLEMENTARY INFORMATION: The PRA (44 U.S.C. 3501-3521) requires Federal agencies to obtain OMB approval, in the form of a control number, for each collection of information they conduct or sponsor. A statutory prerequisite for OMB approval is the solicitation of public comments. This request for comment is being made pursuant to the PRA at 43 U.S.C. 3506(c)(2)(A).

With respect to this proposed collection of information, the BLM invites comments on: (1) Whether the proposed collection of information is necessary for the proper performance of the BLM's functions, including whether the information will have practical utility; (2) The accuracy of the BLM's estimate of the burden of the proposed collection of information; (3) Ways to enhance the quality, utility, and clarity of the information proposed to be collected; and (4) Ways to minimize the burden of the proposed collection of information on respondents, including through the use of automated collection techniques or the use of other forms of information technology.

Titles

a. Form 3830-4, Affidavit of Annual Assessment Work; and

b. Form 3830-5, Maintenance Fee Payment Form.

OMB Control Number: 1004-XXXX.

Abstract: This notice pertains to information that holders of legal interests in unpatented mining claims, mill sites, and/or tunnel sites must submit annually to the BLM in order to retain those interests. Claimants with a legal interest in mining claims or sites located under the Mining Law of 1872, 30 U.S.C. 22-54, must pay an annual maintenance fee in accordance with 43 CFR 3834.11. Proposed Form 3830-5, Maintenance Fee Payment Form, would be an optional form such claimants could use to list their mining claims or sites and submit with their maintenance fee payment to document their compliance with 43 CFR 3834.111.

Proposed Form 3830-4, Affidavit of Annual Assessment Work, would be an optional form claimants with 10 or fewer claims nationwide could file if they have elected to seek a waiver of annual maintenance fees. The proposed form would be the second of two submissions that are required of such claimants. The first required submission is a Maintenance Fee Waiver Certification (Form 3830-2) no later than the beginning of the upcoming assessment year on September 1. OMB has approved Form 3830-2 under control number 1004-0114.

The second submission is required after the end of the assessment year, but no later than December 30 of the year in which the assessment year ends. At that time, a claimant seeking a waiver from annual maintenance fees must provide the BLM with a certification that the annual assessment work requirements have been completed. Proposed Form 3830-4 is intended to assist eligible claimants comply with this second requirement.

Frequency of Collection: Annually.

Affected Public: Individuals, associations, and corporations seeking to retain interests under the Mining Law, 30 U.S.C. 28f, and the Federal Land Policy and Management Act, 43 U.S.C. 1744.

Obligation To Respond: Required to obtain or retain benefits.

Estimated Reporting and Recordkeeping “Hour” Burden: 12,080 responses and 6,040 hours annually. The following table details the individual components and respective hour burdens of this information collection request:

A. Type of response | B. Number of responses | C. Time per response | D. Total hours (B × C)
Affidavit of Annual Assessment Work (43 CFR part 3835) Form 3830-4 | 5,360 | 30 minutes | 2,680
Maintenance Fee Payment Form (43 CFR part 3834) (Form 3830-5) | 6,720 | 30 minutes | 3,360
Totals | 12,080 |  | 6,040

Estimated Annual Non-Hour Cost: The BLM assesses a $10 processing fee, per mining claim, for affidavits of assessment work. 43 CFR 3000.12, 3830.21, and 3835.32(c). Some affidavits include information on more than one mining claim. Based on our experience, we estimate that respondents file affidavits of assessment work for 21,679 claims and pay $216,790 in processing fees annually.

Please send comments as directed above under DATES and ADDRESSES. Please refer to OMB control number 1004-XXXX in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Information Collection Clearance Officer.

[FR Doc. 2011-12516 Filed 5-19-11; 8:45 am]

BILLING CODE 4310-84-P